FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than October 21, 2002.

A. Federal Reserve Bank of Minneapolis (Julie Stackhouse, Vice President) 90 Hennepin Avenue, Minneapolis, Minnesota 55480-0291:

1. Robert B. Whitlock, Minneapolis, Minnesota, Jonathon H. Berg, M.D., Northwood, North Dakota, and Marie Gillespie, LaGrange Park, Illinois; as trustees of the Lake Bank Shares, Inc., Employee Stock Ownership Plan, Emmons, Minnesota, and thereby indirectly control Lake Bank Shares, Inc., Emmons, Minnesota and its subsidiaries, Security Bank of Minnesota, Albert Lea, Minnesota, and First State Bank of Emmons, Emmons, Minnesota.

Board of Governors of the Federal Reserve System, September 30, 2002.
Robert deV. Frierson,
Deputy Secretary of the Board.

[FR Doc. 02-25215 Filed 10-3-02; 8:45 am]

BILLING CODE 6210-01-S